ENVIRONMENTAL PROTECTION AGENCY

40 CFR Part 52

[VA201-5202; FRL-9093-6]

Approval and Promulgation of Air Quality Implementation Plans; Virginia; Update to Materials Incorporated by Reference; Correction

AGENCY: Environmental Protection Agency (EPA).

ACTION: Final rule; notice of administrative change; correcting amendment.

SUMMARY: This document corrects errors in the part 52 Identification of Plan tables for Virginia published on July 13, 2009 which summarizes the applicable regulatory, source-specific, and non-regulatory requirements which comprise the current EPA-approved Virginia State Implementation Plan (SIP).

DATES: Effective Date: This action is effective December 18, 2009.

ADDRESSES: SIP materials which are incorporated by reference into 40 CFR part 52 are available for inspection at the following locations: Air Protection Division, U.S. Environmental Protection Agency, Region III, 1650 Arch Street, Philadelphia, Pennsylvania 19103; the Air and Radiation Docket and Information Center, EPA Headquarters Library, Room Number 3334, EPA West Building, 1301 Constitution Ave., NW., Washington, DC 20460, and the National Archives and Records Administration. If you wish to obtain materials from a docket in the EPA Headquarters Library, please call the Office of Air and Radiation (OAR) Docket/Telephone number: (202) 566-1742; or the National Archives and Records Administration (NARA). For information on the availability of this material at NARA, call (202) 741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: On July 13, 2009 (74 FR 33332), EPA published an update of materials submitted by Virginia that are incorporated by reference (IBR) into the Virginia State implementation plan (SIP) as of June 1, 2009. The regulations, source-specific requirements, and non-regulatory requirements affected by this update (summarized in the tables cited as 40 CFR 52.2420(c), (d), and (e) respectively) had been previously submitted by the Virginia Department of Environmental Quality (DEQ) and approved by EPA. In this update action, EPA announced the following revisions to entries listed in the paragraph 52.2420(c), (d) and (e) tables:

• Correction of typographical errors to the text and the dates published in these tables.

• Removal of the quotation marks from the terms listed in the “Explanation [former SIP section]” column.

• Removal of entries 5-80-1835, 5-80-1845, and 5-80-1855, from the paragraph (c) table, since they are designated as “reserved,” and contain no text that is incorporated by reference.

• Correction of the date format in the paragraph (c), (d) and (e) tables so that there were no placeholder zeros in the month or day (e.g., the date format would be 1/1/08, not 01/01/08).

However, the tables cited as 40 CFR 52.2420(c) through (e), and published on pages 33334 through 33364, still contained entries that did not reflect the described revisions. This action corrects those tables in 40 CFR 52.2420(c) through (e), as described herein:

1. Page 33334—a. Entry 5-10-20—in the “Explanation [former SIP citation]” column, remove the quotation marks from “volatile organic compound.”

b. Entries 5-20-203 and 5-20-204—revise the date in the “State effective date” column from “7/29/08” to “12/12/07.”

2. Page 33335—a. Entries 5-20-205—revise the date format in the “State effective date” column from “01/01/98,” “04/01/98,” “01/01/99,” and “08/25/04” to “1/1/98,” “4/1/98,” “1/1/99” and “8/25/04,” respectively.

b. Entry 5-20-206—revise the date format in the “State effective date” column from “10/04/06” to “10/4/06.”

3. Page 33338—a. The first entry for 5-40-1670, in the “Title/subject” column, capitalize the first word in each listed definition.

b. Entries 5-40-1670 (second entry), and 5-40-1750—revise the date format in the “State effective date” column from “4/01/99” to “4/1/99.”

4. Page 33339—Entry 5-40-1810—revise the date format in the “State effective date” column from “4/01/99” to “4/1/99.”

5. Page 33345—a. Entry 5-40-5610—in the “Explanation [former SIP citation]” column, move the term “clean wood” from list of “terms added” to the list of “terms revised.”

b. Remove the first entry for 5-40-5700 from the table in paragraph (c).

6. Page 33347—Entry 5-40-7810—in the “Title/subject” column, capitalize the first word in each listed definition.

7. Page 33350—Remove “reserved” entries 5-80-1835, 5-80-1845 and 5-80-1855 from the table in paragraph (c).

8. Page 33355—Entry 5-140-1150—restore the EPA approval date and page citation (12/28/07, 72 FR 73602) in the “EPA approval date” column.

9. Page 33356—Entry 5-140-1800—restore the State effective date and the EPA approval date and page citation in the “State effective date” and “EPA approval date” columns, respectively.

10. Pages 33361 and 33362—Revise the date format in the “EPA approval date” column from “1/02/01” to “1/2/01” for the following entries in the paragraph (d) table:

Cellofoam North America, Inc.—Falmouth Plant [Consent Agreement].

CNG Transmission Corporation—Leesburg Compressor Station [Permit to Operate]. Columbia Gas Transmission Company—Loudoun County Compressor Station [Permit to Operate].

District of Columbia's Department of Corrections—Lorton Correctional Facility [Permit to Operate].

Michigan Cogeneration Systems, Inc.—Fairfax County I-95 Landfill [Permit to Operate]. Metropolitan Washington Airports Authority—Ronald Reagan Washington National Airport [Permit to Operate].

Noman M. Cole, Jr., Pollution Control Plant [Consent Agreement].

Ogden Martin Systems of Alexandria/Arlington, Inc. [Consent Agreement].

Ogden Martin Systems of Fairfax, Inc. [Consent Agreement].

U.S. Department of Defense—Pentagon Reservation [Permit to Operate].

Potomac Electric Power Company (PEPCO)—Potomac River Generating Station [Consent Agreement],

Potomac Electric Power Company (PEPCO)—Potomac River Generating Station.

United States Marine Corps.—Quantico Base [Permit to Operate].

Transcontinental Gas Pipeline Corporation—Compressor Station No.185 [Consent Agreement].

U.S. Army Garrison at Fort Belvoir [Permit to Operate].

Virginia Power (VP)—Possum Point Generating Station [Permit containing NOX RACT requirements].

Virginia Electric and Power Company—Possum Point Generating Station [Consent Agreement containing VOC RACT requirements].

Washington Gas Light Company—Springfield Operations Center [Consent Agreement].

11. Page 33363—In the entry for Documents Incorporated by Reference (9 VAC 5-20-21, Paragraphs E.4.a. (21) and (22)), revise the date format in the “State submittal date” and “Additional explanation” column from “05/14/07” and “10/04/06” to “5/14/07” and “10/4/06,” respectively.

12. Page 33364—In the entry for Attainment Demonstration and Early Action Plan for the Northern Shenandoah Valley Ozone Early Action Compact Area, revise the date format in the “State submittal date” column from “02/15/05” to “2/15/05.”

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because this rule is not substantive and imposes no regulatory requirements, but merely corrects a citation in a previous action. Thus, notice and public procedure are unnecessary. We find that this constitutes good cause under 5 U.S.C. 553(b)(B).

All SIP materials incorporated by reference in paragraphs (c) and (d) are available for public inspection at the Air and Radiation Docket and Information Center located at EPA Headquarters in Washington, DC, the EPA Regional Office, and the National Archives and Records Administration.

Statutory and Executive Order Reviews

General Requirements

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of December 18, 2009. EPA will submit a report containing this rule and other required information to the U.S. Senate, the U.S. House of Representatives, and the Comptroller General of the United States prior to publication of the rule in the Federal Register. This action to correct the tables in 40 CFR 52.2420(c), (d), and (e) for Virginia is not a “major rule” as defined by 5 U.S.C. 804(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 4, 2009.
James W. Newsom,
Acting Regional Administrator, Region III.

40 CFR part 52 is amended as follows:

PART 52—[AMENDED]

1. The authority for citation for part 52 continues to read as follows:

Authority: 42.U.S.C. 7401 et seq.

Subpart VV—Virginia

2. In § 52.2420, the tables in paragraphs (c), (d) and (e) are amended by:

a. Revising the following entries in paragraph (c): 5-10-20 (sixth entry), 5-20-203 through 5-20-206, 5-40-1660, 5-40-1670, 5-40-1750, 5-40-1810, 5-40-5610 (first entry), 5-40-7810, 5-140-1150, and 5-140-1800.

b. Removing the following entries in paragraph (c): 5-40-5700 (first entry), 5-80-1835, 5-80-1845, and 5-80-1855.

c. Revising the following entries in paragraph (d): Cellofoam North America, Inc.—Falmouth Plant [Consent Agreement], CNG Transmission Corporation—Leesburg Compressor Station [Permit to Operate], Columbia Gas Transmission Company—Loudoun County Compressor Station [Permit to Operate], District of Columbia's Department of Corrections—Lorton Correctional Facility [Permit to Operate], Michigan Cogeneration Systems, Inc.—Fairfax County I-95 Landfill [Permit to Operate], Metropolitan Washington Airports Authority—Ronald Reagan Washington National Airport [Permit to Operate], Norman M. Cole, Jr., Pollution Control Plant [Consent Agreement], Ogden Martin Systems of Alexandria/Arlington, Inc. [Consent Agreement], Ogden Martin Systems of Fairfax, Inc. [Consent Agreement], U.S. Department of Defense—Pentagon Reservation [Permit to Operate], Potomac Electric Power Company (PEPCO)—Potomac River Generating Station [Consent Agreement], Potomac Electric Power Company (PEPCO)—Potomac River Generating Station, United States Marine Corps.—Quantico Base [Permit to Operate], Transcontinental Gas Pipeline Corporation—Compressor Station No.185 [Consent Agreement], U.S. Army Garrison at Fort Belvoir [Permit to Operate], Virginia Power (VP) Possum Point Generating Station [Permit containing NOX RACT requirements], Virginia Electric and Power Company—Possum Point Generating Station [Consent Agreement containing VOC RACT requirements], and Washington Gas Light Company—Springfield Operations Center [Consent Agreement].

d. Revising the entries in paragraph (e): Documents Incorporated by Reference (9 VAC 5-20-21, Paragraphs E.4.a. (21) and (22)), and Attainment Demonstration and Early Action Plan for the Northern Shenandoah Valley Ozone Early Action Compact Area.

The amendments read as follows:

§ 52.2420 Identification of plan.

* * * * *

(c) EPA-approved regulations.

EPA-Approved Virginia Regulations and Statutes
State citation | Title/subject | State effective date | EPA approval date | Explanation [former SIP citation]
9 VAC 5 Chapter 10 General Definitions [Part I]
* * * * * * *
5-10-20 | Terms Defined | 5/4/05 | 8/18/06, 71 FR 47742 | Definition of volatile organic compound.
* * * * * * *
9 VAC 5 Chapter 20 General Provisions
* * * * * * *
Part II Air Quality Programs
* * * * * * *
5-20-203 | Air Quality Maintenance Areas | 12/12/07 | 10/29/08, 73 FR 64210 | Richmond and Hampton Roads 8-Hour Ozone Areas are added.
5-20-204 | Nonattainment Areas | 12/12/07 | 10/29/08, 73 FR 64210 | Richmond and Hampton Roads 8-Hour Ozone Areas are deleted.
5-20-205 | Prevention of Significant Deterioration Areas | 1/1/98, 4/1/98, 1/1/99, 8/25/04 | 8/18/06, 71 FR 47744
5-20-206 | Volatile Organic Compound and Nitrogen Oxides Emissions Control Areas | 10/4/06 | 3/2/07, 72 FR 9441 | Addition of new Fredericksburg Area and expansion of Richmond and Hampton Roads Emission Control Areas.
* * * * * * *
Article 13 Emission Standards for Kraft Pulp and Paper Mills (Rule 4-13)
5-40-1660 | Applicability and Designation of Affected Facility | 4/1/99 | 10/19/07, 72 FR 59207
5-40-1670 | Definitions of Cross recovery furnace, Kraft pulp mill, Lime kiln, Recovery furnace, Smelt dissolving tank | 4/17/95 | 4/21/00, 65 FR 21315 | 120-04-1302 Remaining definitions are federally enforceable as part of the Section 111(d) plan for kraft pulp mills (see, § 62.11610).
| Definitions | 4/1/99 | 10/19/07, 72 FR 59207 | Added: Neutral sulfite semi chemical pulping operation, New design recovery furnace, Pulp and paper mill, Semi chemical pulping process; Straight kraft recovery furnace. Revised: Cross recovery furnace.
* * * * * * *
5-40-1750 | Compliance | 4/1/99 | 10/19/07, 72 FR 59207
* * * * * * *
5-40-1810 | Permits | 4/1/99 | 10/19/07, 72 FR 59207
* * * * * * *
Article 40 Emission Standards for Open Burning (Rule 4-40)
* * * * * * *
5-40-5610 | Definitions | 10/18/06 | 3/19/09, 74 FR 11661 | Terms added: Air curtain incinerator, Clean lumber, Clean wood, Wood waste, and Yard waste. Terms revised: Clean burning waste, Commercial waste, Construction waste, Debris waste, Demolition waste, Garbage, Hazardous waste, Household waste, Industrial waste, Junkyard, Open burning, Open pit incinerator, Refuse, Sanitary landfill, and Special incineration device.
* * * * * * *
Article 53 Emission Standards for Lithographic Printing Processes (Rule 4-53) [Formerly Article 45]
* * * * * * *
5-40-7810 | Definitions of Alcohol, Cleaning solution, Fountain solution, Lithographic printing, Printing process | 4/1/96, 10/4/06 | 3/2/07, 72 FR 9441 |
* * * * * * *
9 VAC 5 Chapter 140 Regulation for Emissions Trading
* * * * * * *
Part II NOX Annual Trading Program
* * * * * * *
Article 2 CAIR-designated Representative for CAIR NOX Sources
* * * * * * *
5-140-1150 | Delegation by CAIR-designated representative and alternate CAIR-designated representative | 4/18/07 | 12/28/07, 72 FR 73602
* * * * * * *
Article 9 CAIR NOX Opt-in Units
5-140-1800 | Applicability. | 4/18/07 | 12/28/07, 72 FR 73602
* * * * * * *

(d) EPA-Approved State Source-Specific Requirements

EPA-Approved Source-Specific Requirements
Source name | Permit/order or registration number | State effective date | EPA approval date | 40 CFR part 52 citation
* * * * * * *
Cellofoam North America, Inc.—Falmouth Plant [Consent Agreement] | Registration No. 40696; FSO-193-98 | 8/10/98 | 1/2/01, 66 FR 8. | 52.2420(d)(3).
CNG Transmission Corporation—Leesburg Compressor Station [Permit to Operate] | Registration No. 71978; County-Plant No. 107-0101 | 5/22/00 | 1/2/01, 66 FR 8. | 52.2420(d)(3).
Columbia Gas Transmission Company—Loudoun County Compressor Station [Permit to Operate] | Registration No. 72265; County-Plant No. 107-0125 | 5/23/00 | 1/2/01, 66 FR 8. | 52.2420(d)(3).
District of Columbia's Department of Corrections—Lorton Correctional Facility [Permit to Operate] | Registration No. 70028; County-Plant No. 0059-0024 | 12/10/99 | 1/2/01, 66 FR 8. | 52.2420(d)(3).
Michigan Cogeneration Systems, Inc.—Fairfax County I-95 Landfill [Permit to Operate] | Registration No. 71961; County-Plant No. 0059-0575 | 5/10/00 | 1/2/01, 66 FR 8. | 52.2420(d)(3)
Metropolitan Washington Airports Authority—Ronald Reagan Washington National Airport [Permit to Operate] | Registration No. 70005; County-Plant No. 0013-0015 | 5/22/00 | 1/2/01, 66 FR 8. | 52.2420(d)(3).
Noman M. Cole, Jr., Pollution Control Plant [Consent Agreement] | Registration No. 70714 | 12/13/99 | 1/2/01, 66 FR 8. | 52.2420(d)(3).
Ogden Martin Systems of Alexandria/Arlington, Inc. [Consent Agreement] | Registration No. 71895; NVRO-041-98 | 7/31/98 | 1/2/01, 66 FR 8. | 52.2420(d)(3).
Ogden Martin Systems of Fairfax, Inc. [Consent Agreement] | Registration No. 71920 | 4/3/98 | 1/2/01, 66 FR 8. | 52.2420(d)(3).
U.S. Department of Defense—Pentagon Reservation [Permit to Operate] | Registration No. 70030; County-Plant No. 0013-0188 | 5/17/00 | 1/2/01, 66 FR 8. | 52.2420(d)(3).
Potomac Electric Power Company (PEPCO)—Potomac River Generating Station [Consent Agreement] | Registration No. 70228; NVRO-106-98 | 7/31/98 | 1/2/01, 66 FR 8. | 52.2420(d)(3) NOX RACT requirements.
Potomac Electric Power Company (PEPCO)—Potomac River Generating Station | Registration No. 70228; County Plant No. 510-0003 | 5/8/00 | 1/2/01, 66 FR 8. | 52.2420(d)(3) VOC RACT requirements.
United States Marine Corps.—Quantico Base [Permit to Operate] | Registration No. 70267; County-Plant No. 153-0010. | 5/24/00 | 1/2/01, 66 FR 8. | 52.2420(d)(3).
Transcontinental Gas Pipeline Corporation—Compressor Station No.185 [Consent Agreement] | Registration No. 71958 | 9/5/96 | 1/2/01, 66 FR 8. | 52.2420(d)(3).
U.S. Army Garrison at Fort Belvoir [Permit to Operate] | Registration No. 70550; County-Plant No. 059-0018 | 5/16/00 | 1/2/01, 66 FR 8. | 52.2420(d)(3).
Virginia Power (VP)—Possum Point Generating Station [Permit containing NOX RACT requirements] | Registration No. 70225; County-Plant No. 153-0002 | 7/21/00 | 1/2/01, 66 FR 8. | 52.2420(d)(3).
Virginia Electric and Power Company—Possum Point Generating Station [Consent Agreement containing VOC RACT requirements] | Registration No. 70225 | 6/12/95 | 1/2/01, 66 FR 8. | 52.2420(d)(3).
Washington Gas Light Company—Springfield Operations Center [Consent Agreement] | Registration No. 70151; NVRO-031-98 | 4/3/98 | 1/2/01, 66 FR 8. | 52.2420(d)(3).
* * * * * * *

(e) EPA-approved non-regulatory and quasi-regulatory material.

Name of non-regulatory SIP revision | Applicable geographic area | State submittal date | EPA approval date | Additional explanation
* * * * * * *
Documents Incorporated by Reference (9 VAC 5-20-21, Paragraphs E.4.a. (21) and (22)). | Fredericksburg VOC Emissions Control Area Designated in 9 VAC 5-20-206 | 05/14/07 | 12/5/07, 72 FR 68511. | State effective date is 10/4/06.
* * * * * * *
Attainment Demonstration and Early Action Plan for the Northern Shenandoah Valley Ozone Early Action Compact Area | City of Winchester and Frederick County | 12/20/04, 2/15/05 | 8/17/05, 70 FR 43280. |
* * * * * * *

[FR Doc. E9-30041 Filed 12-17-09; 8:45 am]

BILLING CODE 6560-50-P